NUCLEAR REGULATORY COMMISSION

[Docket No. 030-34325]

Notice of Availability of Environmental Assessment and Finding of No Significant Impact for License Amendment for Release of Facility for Unrestricted Use for the Department of Veterans Affairs Chicago Health Care System Lakeside Campus—Lakeside Hospital Building, Chicago, IL

AGENCY: Nuclear Regulatory Commission.

ACTION: Notice of availability.

FOR FURTHER INFORMATION CONTACT: William Snell, Senior Health Physicist, Decommissioning Branch, Division of Nuclear Materials Safety, Region III, U.S. Nuclear Regulatory Commission, 2443 Warrenville Road, Lisle, Illinois 60532; telephone: (630) 829-9871; fax number: (630) 515-1259; or by e-mail at wgs@nrc.gov.

SUPPLEMENTARY INFORMATION:

I. Introduction

The Nuclear Regulatory Commission (NRC) is considering issuing a license amendment to Material License No. 03-23853-01VA issued to the Department of Veterans Affairs (DVA) (the licensee), to authorize release of its Chicago Health Care System, Lakeside Campus—Lakeside Hospital Building in Chicago, Illinois for unrestricted use, and has prepared an Environmental Assessment (EA) in support of this amendment in accordance with the requirements of 10 CFR Part 51. Based on the EA, the NRC has concluded that a Finding of No Significant Impact (FONSI) is appropriate.

II. EA Summary

The purpose of the proposed amendment is to allow for the release of the licensee's Chicago, Illinois facility for unrestricted use. The DVA has occupied the Lakeside Hospital Building since it was built in about 1955, and was authorized to use byproduct, source, and special nuclear material for medical diagnosis, therapy, and research beginning in 1957. The Chicago, Illinois facility is a permittee under the DVA NRC Master Material License (MML) Number 03-23853-01VA, and on April 27, 2005, requested the NRC approve the release of the facility for unrestricted use. The approval is consistent with a November 10, 2004, Letter of Understanding (LOU) between the NRC and the DVA for DVA permittees. The LOU requires the DVA to submit for NRC review, permittee requests for the release of buildings for unrestricted use where radioactive materials with a half-life greater than 120 days were used. The DVA identified six isotopes of concern with half-lives greater than 120 days that it used in the Lakeside Hospital Building since 1957: hydrogen-3, carbon-14, chlorine-36, cobalt-60, nickel-63, and cesium-137. The DVA has conducted surveys of the facility and provided information to the NRC to demonstrate that the site meets the licensee termination criteria in Subpart E of 10 CFR Part 20 for unrestricted release.

The staff has prepared an EA in support of the proposed license amendment. Based on its review, the staff determined there were no radiological or non-radiological environmental impacts associated with the action since no radiological remediation activities were required to complete the proposed action. However, the proposed action excludes approval for the release of an area of the facility where nuclear medicine activities are being performed in compliance with 10 CFR 35.100 and 35.200, an activity in which only short-lived radioactive isotopes are used (i.e., isotopes with a half-life less than 120 days). The licensee verified compliance with 10 CFR 20.1402 in this area for isotopes with half-lives longer than 120 days. Because the LOU allows the DVA to release facilities for unrestricted use without NRC approval if only isotopes of less than 120 days were used, when the VA ceases all licensable activities related to the diagnostic nuclear medicine operation, the VA may release that area for unrestricted use without NRC approval.

III. Finding of No Significant Impact

The staff has prepared an EA in support of the proposed license amendment to release the site for unrestricted use. The staff has found that the radiological environmental impacts from the proposed amendment are bounded by the impacts evaluated by NUREG-1496, Volumes 1-3, “Generic Environmental Impact Statement in Support of Rulemaking on Radiological Criteria for License Termination of NRC-Licensed Facilities” (ML042310492, ML042320379, and ML042330385). Additionally, no non-radiological or cumulative impacts were identified. On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: The DVA letter dated April 27, 2005 (Accession No. ML051190353); the Final Status Survey Report, VA Chicago—Lakeside Campus, Medical Sciences Building, December 8, 2004 (Accession No. ML051190353); and the EA summarized above (Accession No. ML052690312). If you do not have access to ADAMS, or if there are problems in accessing the documents located in ADAMS, contact the NRC Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Lisle, Illinois, this 28th day of September 2005.
For the Nuclear Regulatory Commission.
Jamnes L. Cameron,
Chief, Decommissioning Branch, Division of Nuclear Materials Safety Region III.

[FR Doc. E5-5528 Filed 10-6-05; 8:45 am]

BILLING CODE 7590-01-P